DEPARTMENT OF COMMERCE

Foreign-Trade Zones Board

[B-51-2017 and B-52-2017]

Foreign-Trade Zone (FTZ) 196—Fort Worth, Texas; Foreign-Trade Zone (FTZ) 247—Erie, Pennsylvania; Notification of Proposed Production Activity; General Electric Transportation (Underground Mining Vehicles); Fort Worth and Haslet, Texas; Erie and Grove City, Pennsylvania

General Electric Transportation (GE Transportation) submitted a notification of proposed production activity to the FTZ Board for its facilities in Fort Worth and Haslet, Texas within Subzone 196B (Doc. B-51-2017) and Erie and Grove City, Pennsylvania, within Subzones 247A and 247B (Doc. B-52-2017). The notification conforming to the requirements of the regulations of the FTZ Board (15 CFR 400.22) was received on July 19, 2017.

GE Transportation already has authority to produce locomotives, drill equipment, off-highway vehicle wheels, inverters and brake systems within the subzones, subject to restrictions on certain foreign-status components. The current request would add finished products and foreign-status materials/components to the scope of authority related to the production of underground mining vehicles. Pursuant to 15 CFR 400.14(b), additional FTZ authority would be limited to the specific foreign-status materials/components and specific finished products described in the submitted notification (as described below) and subsequently authorized by the FTZ Board.

Production under FTZ procedures could exempt GE Transportation from customs duty payments on the foreign-status materials/components used in export production. On its domestic sales, for the foreign-status materials/components noted below and in the existing scope of authority, GE Transportation would be able to choose the duty rates during customs entry procedures that apply to: Underground mining vehicles & equipment; drive assemblies; chain and flight assemblies; yokes; retarder assemblies; torque shafts; drive shaft assemblies; reducers; reducer assemblies; and brakes (duty rate ranges from free to 5.5%). GE Transportation would be able to avoid duty on foreign-status components which become scrap/waste. Customs duties also could possibly be deferred or reduced on foreign-status production equipment.

The materials/components sourced from abroad include: Yoke seals; bladder tanks; air tanks; locknuts; steel thrust washers; retaining washers; pivot pins; distribution blocks; aluminum plates; accumulators; scroll motors; cylinders; flow dividers; pump pistons; filter elements; actuators; winch assemblies; cylinder buckets; canopy assemblies; bucket lift mounts; ejector blades; controller guards; take-up assemblies; slide bars; fenders; linkage assemblies; steel back plates; battery lifts; battery trays; boom hing pins; wheel covers; tread links; steel forks; axle assemblies; bucket blades; pedals; tread links; joysticks; yoke assemblies; yoke sections; steel spindles; accumulators; pressure reducing valves; spool assemblies; shuttle valves; solenoid valves; handle assemblies; bank valves; tapered cone bearings; driveshaft assemblies; carrier bearings; corner bearings; plain bearing assemblies; gearboxes; reducers; U-joint drive shafts; sprockets; lock plates; planet carriers; end yoke axles; end yokes; pump motors; drive assemblies; base plate assemblies; battery watering systems; oil tank heaters; fuse blocks; dual temperature switches; battery plugs; cable plugs; cable receptacles; connection boxes; controller panels; printed wire board assemblies; interface boxes; wedge locks; linear detectors; temperature sensors; hour meters; ground fault detectors; voltage regulators; and, digital drives (duty rate ranges from free to 8.6%).

Public comment is invited from interested parties. Submissions shall be addressed to the Board's Executive Secretary at the address below. The closing period for their receipt is September 18, 2017.

A copy of the notification will be available for public inspection at the Office of the Executive Secretary, Foreign-Trade Zones Board, Room 21013, U.S. Department of Commerce, 1401 Constitution Avenue NW., Washington, DC 20230-0002, and in the “Reading Room” section of the Board's Web site, which is accessible via www.trade.gov/ftz.

For further information, contact Elizabeth Whiteman at Elizabeth.Whiteman@trade.gov or (202) 482-0473.

Dated: August 3, 2017.
Andrew McGilvray,
Executive Secretary.

[FR Doc. 2017-16793 Filed 8-8-17; 8:45 am]

BILLING CODE 3510-DS-P